NATIONAL LABOR RELATIONS BOARD

Sunshine Act

Agency Holding the Meeting: National Labor Relations Board.

Time and Date: 3:30 p.m., Tuesday, January 15, 2003.

Place: Board Conference Room, Eleventh Floor, 1099 Fourteenth St., NW., Washington, DC 20570.

Status: Closed to public observation pursuant to 5 U.S.C. 552b(c)(2) (internal personnel rules and practices); and (9)(B) disclosure would significantly frustrate implementation of a proposed Agency action * * *).

Matters to be Considered: Internal Administrative Matters.

Contact Person for More Information: Lester A. Heltzer, Acting Executive Secretary, Washington, DC 20570, Telephone: (202) 273-1067.

Dated in Washington, DC, on January 14, 2003.
By direction of the Board.
Lester A. Heltzer,
Acting Executive Secretary.

[FR Doc. 03-1186 Filed 1-14-03; 3:40 pm]

BILLING CODE 7545-01-M